NATIONAL TRANSPORTATION SAFETY BOARD

Sunshine Act Meeting

Time and Date: 9:30 a.m., Wednesday, September 30, 2009.

Place: NTSB Conference Center, 429 L'Enfant Plaza, SW., Washington, DC 20594.

Status: The one item is open to the public.

Matter to be Considered: 8032A Marine Accident Report—Sinking of U.S. Fish Processing Vessel Alaska Ranger, Bering Sea, March 23, 2008.

News Media Contact: Telephone: (202) 314-6100.

The press and public may enter the NTSB Conference Center one hour prior to the meeting for set up and seating.

Individuals requesting specific accommodations should contact Rochelle Hall at (202) 314-6305 by Friday, September 25, 2009.

The public may view the meeting via a live or archived Webcast by accessing a link under “News & Events” on the NTSB home page at http://www.ntsb.gov.

FOR FURTHER INFORMATION CONTACT: Vicky D'Onofrio, (202) 314-6410.

Dated: September 4, 2009.
Candi R. Bing,
Alternate Federal Register Liaison Officer.

[FR Doc. E9-21798 Filed 9-4-09; 4:15 pm]

BILLING CODE 7533-01-P